DEPARTMENT OF THE INTERIOR

Bureau of Land Management

[NV-050-5853-EU]

Notice of Realty Action: Direct Sale of Public Lands

AGENCY: Bureau of Land Management, Interior.

ACTION: Direct sale of public lands in Clark County, Nevada.

SUMMARY: The following lands have been examined and found suitable for direct sale utilizing non-competitive procedures, at not less than the appraised fair market value. The lands have been designated for disposal and are being sold under the authority of Public Law 105-263, the Southern Nevada Public Land Management Act of 1998 (SNPLMA) (112 Stat. 2343) and Sections 203 and 209 of the Federal Land Policy and Management Act of 1976 (FLPMA) (90 Stat. 2750, 43 U.S.C. 1713 and 1719).

Mount Diablo Meridian, Nevada

T. 19 S., R. 61 E.,

Sec. 17, Lot 17;

Sec. 20, Lots 18 and 20.

The lands consist of 35.63 acres, more or less, located in Clark County, Nevada. These parcels of land, situated in North Las Vegas are being offered as a direct sale to North Valley Enterprises, LLC. This land is not required for any federal purposes. The sale is consistent with current Bureau planning for this area and would be in the public interest.

Conveyance of the available mineral interests will occur simultaneously with the sale of the land. The mineral interests being offered for conveyance have no known mineral value. Acceptance of a direct sale offer will constitute an application for conveyance of those mineral interests. The applicant will be required to pay a $50.00 non-returnable filing fee for each parcel for conveyance of the available mineral interests. The patent, when issued, will contain the following reservations to the United States:

1. A right-of-way is reserved for ditches and canals constructed by the authority of the United States, Act of August 30, 1890 (43 U.S.C. 945).

2. All leaseable and saleable mineral deposits are reserved on land sold; permittees, licensees, and lessees retain the right to prospect for, mine, and remove the minerals owned by the United States under applicable law and any regulations that the Secretary of the Interior may prescribe, including all necessary access and exit rights.

3. Both parcels are subject to all valid existing rights.

4. Both parcels are subject to reservations for roads, public utilities and flood control purposes, both existing and proposed, in accordance with the local governing entities' Transportation Plans.

5. All purchasers/patentees, by accepting a patent, agree to indemnify, defend, and hold the United States harmless from any costs, damages, claims, causes of action, penalties, fines, liabilities, and judgments of any kind or nature arising from the past, present, and future acts or omissions of the patentee or their employees, agents, contractors, or lessees, or any third-party, arising out of or in connection with the use and/or occupancy of the patented real property which has already resulted or does hereafter result in: (1) Violations of federal, state, and local laws and regulations that are now or may in the future become, applicable to the real property; (2) Judgments, claims or demands of any kind assessed against the United States; (3) Costs, expenses, or damages of any kind incurred by the United States; (4) Other releases or threatened releases of solid or hazardous or hazardous waste(s) and/or hazardous substance(s), as defined by federal or state environmental laws; off, on, into or under land, property and other interests of the United States; (5) Other activities by which solids or hazardous substances or wastes, as defined by federal and state environmental laws are generated, released, stored, used or otherwise disposed of on the patented real property, and any cleanup response, remedial action or other actions related in any manner to said solid or hazardous substances or wastes; or (6) Natural resource damages as defined by federal and state law. This covenant shall be construed as running with the patented real property and may be enforced by the United States in a court of competent jurisdiction.

Maps delineating the individual parcels will be available for public review at the Bureau of Land Management (BLM) Las Vegas Field Office. Appraisals for each parcel will be available for review when received at the same office. Upon publication of this notice and until completion of this sale, the BLM is no longer accepting land use applications affecting either of these parcels.

In order to determine the fair market value of the subject public lands through appraisal, certain assumptions have been made of the attributes and limitations of the lands and potential effects of local regulations and policies on potential future land uses. Through publication of this notice, the BLM gives notice that these assumptions may not be endorsed or approved by units of local government. Furthermore, no warranty of any kind shall be given or implied by the United States as to the potential uses of the lands offered for sale, and conveyance of the subject lands will not be on a contingency basis. It is the buyer's responsibility to be aware of all applicable local government policies and regulations that would affect the subject lands. It is also the buyer's responsibility to be aware of existing or projected use of nearby properties. When conveyed out of federal ownership, the lands will be subject to any applicable reviews and approvals by the respective unit of local government for proposed future uses, and any such reviews and approvals would be the responsibility of the buyer. Any land lacking access from a public road or highway will be conveyed as such, and future access acquisition will be the responsibility of the buyer.

Detailed information concerning this sale , including the reservations, sale procedures and conditions, planning and environmental documents is available for review at the Bureau of Land Management, Las Vegas Field Office, 4701 N. Torrey Pines Drive, Las Vegas, NV 89130 or by calling (702) 515-5000.

For a period of 45 days from the date of publication of this notice in the Federal Register, the general public and interested parties may submit comments to the Field Manager, Las Vegas Field Office, 4701 North Torrey Pines Drive, Las Vegas, NV 89130. Any adverse comments will be reviewed by the State Director who may sustain, vacate, or modify this realty action. In the absence of any adverse comments, this realty action will become the final determination of the Department of the Interior. The BLM may withdraw any land or interest in the land from sale, if, in the opinion of the authorized officer, consummation of the sale would not be fully consistent with FLPMA, or other applicable laws or is determined to not be in the public interest. Any comments received during this process, as well as the commentor's name and address, will be available to the public in the administrative record and/or pursuant to a Freedom of Information Act request. You may indicate for the record that you do not wish your name and/or address be made available to the public. Any determination by the BLM to release or withhold the names and/or addresses of those who comment will be made on a case-by-case basis. A commentor's request to have their name and/or address withheld from public release will be honored to the extent permissible by law.

The lands will not be offered for sale until at least 60 days after the date of publication of this notice in the Federal Register.

Dated: August 12, 2002.
Angie Lara,
Assistant Field Manager.

[FR Doc. 02-22291 Filed 8-27-02; 4:06 pm]

BILLING CODE 4310-HC-P